DEPARTMENT OF AGRICULTURE

Food Safety and Inspection Service

[Docket No. 00-047N]

FSIS: The Next Steps

AGENCY: Food Safety and Inspection Service, USDA.

ACTION: Notice.

SUMMARY: The Food Safety and Inspection Service (FSIS) will hold a public meeting on December 13, 2000, to discuss the Agency's plans to continue to improve the quality and effectiveness of its programs and to work with establishments in the meat and poultry industry to improve their performance under the Pathogen Reduction/Hazard Analysis and Critical Control Point (HACCP) regulations. FSIS believes that, since the HACCP-based regulatory approach has now been implemented in meat and poultry establishments of all sizes, it is time to plan for these improvements. At the meeting, FSIS will provide information and receive comments from the public on several major areas in which improvements can and should be made. FSIS will carefully consider the input from all interested parties at this meeting in formulating a multi-year strategy for such program improvements.

DATES: The meeting will be held from 9:00 a.m. to 3:00 p.m. on December 13, 2000. Written comments must be received on or before January 5, 2001.

ADDRESSES: The meeting will be held at the Washington Monarch Hotel, 2401 M Street, NW., Washington, DC 20037; telephone (202) 429-2400. Submit written comments to the FSIS Docket Clerk, Room 102, Cotton Annex Building, 300 12th Street, SW., Washington, DC 20250-3700. Interested persons are requested to submit an original and two copies of comments concerning this subject. Comments should be sent to the Docket Clerk at the address shown above and should refer to Docket No. 00-047N. Copies of all comments submitted in response to this notice will be available for public inspection in the FSIS Docket Room between 8:30 a.m. and 4:30 p.m., Monday through Friday.

FOR FURTHER INFORMATION CONTACT: To obtain general information about the meeting arrangements, contact Ms. Sally Fernandez at (202) 690-6524 or fax at (202) 690-6519. For more technical program information, contact Loren Lange, Special Assistant to the Deputy Administrator, Office of Policy, Program Development, and Evaluation, FSIS, at (202) 690-4039 or fax (202) 205-0058.

SUPPLEMENTARY INFORMATION: The regulatory requirements mandated by the Pathogen Reduction/HACCP final rule (61 FR 33806 et seq.) have now been implemented by meat and poultry establishments of all sizes. Although some of the establishments have excellent HACCP programs, it is clear that other establishments have less effective programs, and that some owners and managers may not fully understand their responsibilities under the Sanitation Standard Operating Procedures regulations (9 CFR 416.11-416.17) and HACCP program requirements (9 CFR 417).

It is also clear that FSIS activities can be improved. Many more FSIS personnel need training, more experience, and better feedback in HACCP concepts and in the application of FSIS HACCP regulations. FSIS personnel also need additional guidance material that they can use to better assist small and very small establishments. In addition, FSIS must complete regulatory actions that fill in gaps in the HACCP framework and the farm-to-table food safety continuum. FSIS needs to establish the necessary infrastructure to fulfill its responsibilities as a 21st century public health regulatory agency.

The public meeting is being held to discuss the Agency's current thinking on, and public reaction to, themes that will guide the Agency's strategies and activities for making system improvements. At the public meeting, presentations will be made on HACCP experience and accomplishments to date and the Agency's thinking about the concepts that are likely to guide its future actions. After the presentations, there will be opportunity for further discussion and comment by interested parties.

Additional Public Notification

FSIS has considered the potential civil rights impact of this notice on minorities, women, and persons with disabilities. FSIS anticipates that this notice will not have a negative or disproportionate impact on minorities, women, or persons with disabilities. However, notices are designed to provide information and receive public comment on issues that may lead to new or revised Agency regulations or instructions. Public involvement in all segments of rulemaking and policy development is important. Consequently, in an effort to better ensure that minorities, women, and persons with disabilities are aware of this notice and are informed about the mechanism for providing their comments, FSIS will announce it and provide copies of this Federal Register publication in the FSIS Constituent Update.

FSIS provides a weekly Constituent Update, which is communicated via fax to more than 300 organizations and individuals. In addition, the update is available on-line through the FSIS web page located at http://www.fsis.usda.gov. The update is used to provide information regarding FSIS policies, procedures, information regarding FSIS policies, procedures, regulations, Federal Register notices, FSIS public meetings, recalls, and other types of information that could affect or would be of interest to our constituents/stakeholders. The constituent fax list consists of industry, trade, and farm groups, allied health professionals, scientific professionals, and other persons who have requested to be included. Through these various channels, FSIS is able to provide information to a much broader, more diverse audience. For more information and to be added to the constituent fax list, fax your request to the Congressional and Public Affairs Office, at (202) 720-5704.

Done in Washington, DC, on November 30, 2000.
Thomas J. Billy,
Administrator.

[FR Doc. 00-31069 Filed 12-5-00; 8:45 am]

BILLING CODE 3410-DM-P